DEPARTMENT OF HOUSING AND URBAN DEVELOPMENT

[Docket No. FR-5484-N-16]

Notice of Proposed Information Collection: Comment Request; FHA-Insured Mortgage Loan Servicing of Delinquent, Default, and Foreclosure Loans With Service Members

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: July 11, 2011.

ADDRESSES: Interested persons are invited to submit comments regarding this proposal. Comments should refer to the proposal by name and/or OMB Control Number and should be sent to: Reports Liaison Officer, Department of Housing and Urban Development, 451 7th Street, SW., Washington, DC 20410, Room 9120 or the number for the Federal Information Relay Service (1-800-877-8339).

FOR FURTHER INFORMATION CONTACT: Ivery W. Himes, Director, Office of Single Family Program Development, Department of Housing and Urban Development, 451 7th Street SW., Washington, DC 20410, telephone (202) 402-5628 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: FHA-Insured Mortgage Loan Servicing of Delinquent, Default, and Foreclosure Loans W ith Service Members Act.

OMB Control Number, if applicable: 2502-0584

Description of the need for the information and proposed use: FHA insurance is an important source of mortgage credit for low and moderate-income borrowers and their neighborhoods. It is essential that FHA maintain a healthy mortgage insurance fund through premiums charged the borrower by FHA along with Federal budget receipts generated from those premiums to support HUD's goals. Providing policy and guidance to the single family housing mortgage industry regarding changes in FHA's program is essential to protect the fund. This OMB information request provides HUD's policy and guidance.

Agency form numbers, if applicable: HUD-PA 426, Avoiding Foreclosure Pamphlet, HUD-9539, Request for Occupied Conveyance, HUD-27011, Single Family Application for Insurance Benefits, HUD-50012, Mortgagees Request for Extension of Time Requirements, HUD-92070, Service-members Civil Relief Act Notice Disclosure.

Estimation of the total numbers of hours needed to prepare the information collection including number of respondents, frequency of response, and hours of response: The number of burden hours is 5,456,245, the number of respondents is 223, the number of responses is 69,178,200, the frequency of response is on occasion, and the burden hour per response is from 15 minutes to 4 hours depending upon the activity.

Status of the proposed information collection: This is an extension of a currently approved collection, OMB 2502-0584.

Authority: The Paperwork Reduction Act of 1995, 44 U.S.C., Chapter 35, as amended.

Date: May 3, 2011.
Ronald Y. Spraker,
Associate General Deputy Assistant Secretary for Housing.

[FR Doc. 2011-11262 Filed 5-9-11; 8:45 am]

BILLING CODE 4210-67-P